DEPARTMENT OF JUSTICE

[OMB Number 1121—NEW]

Bureau of Justice Statistics; Agency Information Collection Activities; Proposed eCollection eComments Requested; New Collection: Census of Tribal Law Enforcement Agencies (CTLEA)

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until June 9, 2017.

FOR FURTHER INFORMATION CONTACT: If you have additional comments especially on the estimated public burden or associated response time, suggestions, or need a copy of the proposed information collection instrument with instructions or additional information, please contact Steven W. Perry, Statistician, Prosecution and Judicial Statistics, Bureau of Justice Statistics, 810 Seventh Street NW., Washington, DC 20531 (email: Steven.W.Perry@usdoj.gov; telephone: 202-307-0777).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: Census of Tribal Law Enforcement Agencies (CTLEA).

(3) The agency form number, if any, and the applicable component of the Department sponsoring the collection: The applicable form number(s) for this collection is CTLEA-17 and CTLEA-17BIA. The applicable component within the Department of Justice is the Bureau of Justice Statistics, in the Office of Justice Programs.

(4) Affected public who will be asked or required to respond, as well as a brief abstract: This information collection is a census of approximately 300 tribal law enforcement agencies and Bureau of Indian Affairs (BIA) police agencies operating in Indian country and serving tribal lands. The Tribal Law and Order Act of 2010 (TLOA) directed BJS to improve its Indian country statistical data collections at the federal, state, local and tribal levels. This project helps fulfill this mandate and meet the agencies mission.

Abstract: Tribal law enforcement agencies share concurrent jurisdiction for all criminal matters among tribal members occurring on tribal lands and, often, act as the first responders for serious felony crimes committed in Indian country, until the appropriate federal and state law enforcement official arrive upon the scene. Tribal law enforcement agencies are authorized and operated by tribes to enforce tribal laws, statutes and codes. BIA police agencies are operated by the Department of Interior, serving on specified reservation or enforcing laws for a group of smaller tribes in close proximity to one another. Currently there about 30 BIA police departments. Similar to many Federal, state and local law enforcement agencies, tribal and BIA officers have to meet certain qualifications or complete required certification or training to be police officers. They are responsible for ensuring the public safety on reservations, trust land and tribal communities. They face the threats of danger responding to the public's call for help, often covering vast geographic regions with limited resources. However, although the combined number tribal and BIA law enforcement agencies has increased to about 300 in recent decades, unlike their Federal, State and local counterparts, there has been only limited studies on law enforcement in Indian country and no comprehensive regularly recurring statistical collection that focuses on all tribal and BIA law enforcement agencies operating in the U.S.

The CTLEA will capture the administrative and operational characteristics of the law enforcement agencies. A goal of the CTLEA is to obtain national statistics on tribal and BIA law enforcement agency staffing and services; operating budgets and sources of funding; work activities including calls for service, arrests and citations issued; training, equipment and types of transportation; coordination and collaboration with Federal, State and local agencies; and technology use and access to regional and national criminal justice databases. In addition, this survey will collect data on matters related to human trafficking, domestic violence, and juvenile offending. These data will allow BJS to establish baselines for possible trend analyses and comparisons with future iteration of the CTLEA. The information gathered in the CTLEA-17 and CTLEA-17BIA will ask questions about 2017 agency characteristics and 2016 crime statistics.

(5) An estimate of the total number of respondents and the amount of time estimated for an average respondent to respond: An estimated 300 tribal law enforcement agencies—including tribal operated police departments (224), conservation/wildlife enforcement agencies (43), tribal university or college police (6) and BIA agencies (27)—that serve or work on tribal lands will take part in the CTLEA. Based on the pilot testing, an average of 45 minutes per respondent is needed to complete the CTLEA-17 form and 30 minutes per respondent is needed to complete the CTLEA-17BIA form. The following factors were considered when determining the final questionnaire content and the reasonably acceptable burden estimate for the first CTLEA: The total number of eligible tribal law enforcement agencies, the ability of offices to access or gather the requested data, and the capacity for their case management systems to generate the required information balanced against the current paucity of accurate and regularly available data about tribal law enforcement agencies operated by tribes or the BIA. BJS anticipates that nearly all of the approximately 300 respondents will fully complete the questionnaire.

(6) An estimate of the total public burden (in hours) associated with the collection: The total estimated public burden associated with this collection is 230 hours. It is estimated that respondents will take 30 to 45 minutes to complete a questionnaire depending on the version and an additional 15 minutes is needed for potential post data collection verification or validation of responses for about 15% of the respondents. The burden hours for CTLEA respondent data collection sum to 229 hours ((273 TLEA respondents × 45 min.) + (27 BIA respondents × 30 min.) + (45 verification respondents × 15 min.))/60 min. = 230 hours.

If additional information is required contact: Melody Braswell, Department Clearance Officer, United States Department of Justice, Justice Management Division, Policy and Planning Staff, Two Constitution Square, 145 N Street NE., 3E.405A, Washington, DC 20530.

Dated: April 5, 2017.
Melody Braswell,
Department Clearance Officer for PRA, U.S. Department of Justice.

[FR Doc. 2017-07077 Filed 4-7-17; 8:45 am]

BILLING CODE 4410-18-P